FEDERAL COMMUNICATIONS COMMISSION

[DA 04-1259]

Annual Adjustment of Revenue Thresholds

AGENCY: Federal Communications Commission.

ACTION: Notice.

SUMMARY: This document announces that the 2003 revenue threshold between Class A carriers and Class B carriers is increased to $123 million. The 2003 revenue threshold between larger Class A carriers and mid-sized carriers is increased to $7.240 billion.

FOR FURTHER INFORMATION CONTACT: Debbie Weber, Pricing Policy Division, Wireline Competition Bureau at (202) 418-0812.

SUPPLEMENTARY INFORMATION: This is a summary of the Commission's public notice released May 4, 2004. This notice announces the inflation-adjusted 2003 revenue thresholds used for classifying carrier categories for various accounting and reporting purposes: (1) Distinguishing Class A carriers from Class B carriers; and (2) distinguishing larger Class A carriers from mid-sized carriers. The revenue threshold between Class A carriers and Class B carriers is increased to $123 million. The revenue threshold between larger Class A carriers and mid-sized carriers is increased to $7.240 billion. The revenue thresholds for 2003 were determined as follows:

| Mid-sized Threshold | Larger Class A Threshold
(1) GDP-CPI Base | 85.59 | 102.18
(2) 2003 GDP-CPI | 105.69 | 105.69
(3) Inflation Factor (line 2 ÷ 1) | 1.2348 | 1.0343
(4) Original Revenue Threshold | ¹ $100 | ² $7
(5) 2003 Revenue Threshold (line 3 * 4) | ¹ $123 | ² $7.240
¹ Million.
² Billion.

Federal Communications Commission.
Tamara L. Preiss,
Chief, Pricing Policy Division.

[FR Doc. 04-10836 Filed 5-12-04; 8:45 am]

BILLING CODE 6712-01-P